DEPARTMENT OF HEALTH AND HUMAN SERVICES

National Institutes of Health

Office of the Director, National Institutes of Health; Amended Notice of Meeting

Notice is hereby given of a change in the meeting of the Office of Director, National Institutes of Health, Board of Scientific Counselors, May 15, 2020, 10:00 a.m. to 2:00 p.m., National Institutes of Health, 1 Center Drive, Building 1, Room 151, Bethesda, MD 20892, which was published in the Federal Register on February 28, 2020, 85 FR 12797.

This notice is amended to announce that the meeting format and time of meeting has changed. The meeting will now be held as a virtual meeting by WebEx and remains open to the public. Individuals who plan to view the virtual meeting and need special assistance or other reasonable accommodations to view the meeting, should notify the Contact Person listed below in advance of the meeting.

Date: Friday, May 15, 2020.

Time: 10:00 a.m.-1:00 p.m., EST.

Agenda: The meeting will include a discussion of policies and procedures that apply to the regular review of NIH intramural scientists and their work. https://nih.webex.com/nih/j.php?MTID=m7bfd2d92af588fc4c4ef247032a51184.

Meeting Number: 297 101 067.

Password: Kg9RCx4beR3.

Join by video system: Dial 297101067@nih.webex.com.

You can also dial 173.243.2.68 and enter your meeting number.

Join by phone: 1-650-479-3208 Call-in number (US/Canada).

Access code: 297 101 067.

Contact Person: Margaret McBurney, Program Specialist Office of the Deputy Director for Intramural Research National Institutes of Health, 1 Center Drive, Room 160, Bethesda, MD 20892-0140, (301) 496-1921, mmcburney@od.nih.gov.

Any interested person may file written comments with the committee by forwarding the statement to the Contact Person listed on this notice. The statement should include the name, address, telephone number and when applicable, the business or professional affiliation of the interested person.

Information is also available at: http://sourcebook.od.nih.gov/, where an agenda and any additional information for the meeting will be posted when available.

Dated: April 7, 2020.
Melanie J. Pantoja,
Program Analyst, Office of Federal Advisory Committee Policy.

[FR Doc. 2020-07621 Filed 4-9-20; 8:45 am]

BILLING CODE 4140-01-P